DEPARTMENT OF ENERGY

Federal Energy Regulatory Commission

Combined Notice of Filings #1

Docket Numbers: EC15-110-000.

Applicants: Cleco Partners L.P., Cleco Power LLC, Perryville Energy Partners, L.L.C., Attala Transmission LLC.

Description: Joint Application for Order Authorizing Disposition of Jurisdictional Facilities under Section 203 of the Federal Power Act of Cleco Power LLC, et al.

Filed Date: 4/2/15.

Accession Number: 20150402-5320.

Comments Due: 5 p.m. ET 4/23/15.

Docket Numbers: EC15-111-000.

Applicants: American Transmission Company LLC, Wisconsin Public Service Corporation.

Description: Joint Application for Authority to Acquire Transmission Facilities Under Section 203 of the FPA of American Transmission Company LLC and Wisconsin Public Service Corporation.

Filed Date: 4/2/15.

Accession Number: 20150402-5323.

Comments Due: 5 p.m. ET 4/23/15.

Docket Numbers: EC15-112-000.

Applicants: American Transmission Company LLC, Wisconsin Public Service Corporation.

Description: Joint Application for Authority to Acquire Transmission Facilities Under Section 203 of the FPA of American Transmission Company LLC and Wisconsin Public Service Corporation.

Filed Date: 4/2/15.

Accession Number: 20150402-5324.

Comments Due: 5 p.m. ET 4/23/15.

Docket Numbers: EC15-113-000.

Applicants: FortisUS Energy Corporation.

Description: Application of FortisUS Energy Corporation Pursuant to FPA Section 203.

Filed Date: 4/3/15.

Accession Number: 20150403-5090.

Comments Due: 5 p.m. ET 4/24/15.

Take notice that the Commission received the following electric rate filings:

Docket Numbers: ER10-2719-020; ER10-2718-020; ER10-2633-018; ER10-2717-018; ER10-3140-017; ER13-55-008; ER10-2570-018.

Applicants: East Coast Power Linden Holding, L.L.C., Cogen Technologies Linden Venture, L.P., Birchwood Power Partners, L.P., EFS Parlin Holdings, LLC, Inland Empire Energy Center, LLC, Homer City Generation, L.P., Shady Hills Power Company, L.L.C.

Description: Notice of Non-Material Change in Status of the GE Companies under ER10-2719, et al.

Filed Date: 4/3/15.

Accession Number: 20150403-5128.

Comments Due: 5 p.m. ET 4/24/15.

Docket Numbers: ER13-1874-001; ER14-95-001.

Applicants: American Electric Power Service Corporation.

Description: Notice of Non-Material Change in Status submitted by American Electric Power Service Corporation on behalf of the AEP East Operating Companies and AEP Generation Resources, Inc.

Filed Date: 4/1/15.

Accession Number: 20150401-5748.

Comments Due: 5 p.m. ET 4/22/15.

Docket Numbers: ER15-960-000.

Applicants: CPV Biomass Holdings, LLC.

Description: Supplement to February 2, 2015 CPV Biomass Holdings, LLC tariff filing.

Filed Date: 4/1/15.

Accession Number: 20150401-5746.

Comments Due: 5 p.m. ET 4/8/15.

Docket Numbers: ER15-1443-000.

Applicants: Appalachian Power Company.

Description: § 205(d) rate filing per 35.13(a)(2)(iii): Power Coordination Agreement Amendment to be effective 6/1/2015.

Filed Date: 4/2/15.

Accession Number: 20150402-5302.

Comments Due: 5 p.m. ET 4/23/15.

Docket Numbers: ER15-1444-000.

Applicants: Wheeling Power Company.

Description: § 205(d) rate filing per 35.13(a)(2)(iii): Power Coordination Agreement Concurrence to be effective 6/1/2015.

Filed Date: 4/2/15.

Accession Number: 20150402-5303.

Comments Due: 5 p.m. ET 4/23/15.

Docket Numbers: ER15-1445-000.

Applicants: Appalachian Power Company.

Description: § 205(d) rate filing per 35.13(a)(2)(iii): System Integration Agreement Amendment to be effective 6/1/2015.

Filed Date: 4/2/15.

Accession Number: 20150402-5304.

Comments Due: 5 p.m. ET 4/23/15.

Docket Numbers: ER15-1446-000.

Applicants: Wheeling Power Company.

Description: § 205(d) rate filing per 35.13(a)(2)(iii): System Integration Agreement Concurrence to be effective 6/1/2015.

Filed Date: 4/2/15.

Accession Number: 20150402-5305.

Comments Due: 5 p.m. ET 4/23/15.

Docket Numbers: ER15-1447-000.

Applicants: Mid-Georgia Cogen L.P.

Description: Initial rate filing per 35.12 Market-Based Rate Application to be effective 6/3/2015.

Filed Date: 4/3/15.

Accession Number: 20150403-5037.

Comments Due: 5 p.m. ET 4/24/15.

Docket Numbers: ER15-1448-000.

Applicants: Southwest Power Pool, Inc.

Description: § 205(d) rate filing per 35.13(a)(2)(iii): 2825R3 KMEA and Westar Energy Meter Agent Agreement to be effective 4/1/2015.

Filed Date: 4/3/15.

Accession Number: 20150403-5039.

Comments Due: 5 p.m. ET 4/24/15.

Docket Numbers: ER15-1449-000.

Applicants: Southern California Edison Company.

Description: § 205(d) rate filing per 35.13(a)(1): Formula Rate Revision Filing to be effective 1/1/2015.

Filed Date: 4/3/15.

Accession Number: 20150403-5136.

Comments Due: 5 p.m. ET 4/24/15.

Docket Numbers: ER15-1450-000.

Applicants: Southwest Power Pool, Inc.

Description: § 205(d) rate filing per 35.13(a)(2)(iii): 2998 RPM Access and Westar Energy Meter Agent Agreement to be effective 4/1/2015.

Filed Date: 4/3/15.

Accession Number: 20150403-5147.

Comments Due: 5 p.m. ET 4/24/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 3, 2015.
Nathaniel J. Davis, Sr.,
Deputy Secretary.

[FR Doc. 2015-08224 Filed 4-9-15; 8:45 am]

BILLING CODE 6717-01-P